COMMITTEE FOR PURCHASE FROM PEOPLE WHO ARE BLIND OR SEVERELY DISABLED

Procurement List; Additions and Deletions

AGENCY: Committee for Purchase from People Who Are Blind or Severely Disabled.

ACTION: Additions to and deletions from procurement list.

SUMMARY: This action adds to the Procurement List products and services to be furnished by nonprofit agencies employing persons who are blind or have other severe disabilities, and deletes from the Procurement List services previously furnished by such agencies.

EFFECTIVE DATE: January 9, 2005.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION:

Additions

On October 8, and October 15, 2004, the Committee for Purchase From People Who Are Blind or Severely Disabled published notice (69 FR 60351 and 61202) of proposed additions to the Procurement List.

The following comments pertain to Battery, Nonrechargeable, Lithium.

Comments were received from the current contractor for this lithium battery. The contractor asked that the current contract be allowed to run its term before the Committee's nonprofit agency begins performance. The contractor noted that the lithium battery accounts for nearly all sales under the contract and a sizeable part of the contractor's battery sales to the Government, which is the largest consumer of the battery. The contractor noted that sales of the battery have skyrocketed due to the current hostilities, so losing the contract would cause the contractor to lose its revenue expectations for this battery.

Addition of this battery to the Procurement List will not cause a premature termination of the current contract, as Procurement List additions do not affect contracts awarded prior to the effective date of the addition or options exercised under those contracts. 41 CFR 51-5.3(c). In assessing impact of a Procurement List addition on a current contractor, the Committee looks at the total sales of that contractor, including related corporations, as well as previous impacts on the contractor and the contractor's history of providing the product in question. 41 CFR 51-2.4(a)(4). The current contractor is a very large business, and the loss of the contract for this lithium battery represents a very small part of the contractor's total sales. Because the competitive procurement system does not guarantee that any contractor will receive subsequent contracts for a product, the Committee does not consider a loss of revenue expectations alone to constitute severe adverse impact on a contractor. Because this contractor has provided this battery to the Government for almost a decade, the Committee has given some weight to this sales history, but in light of the very small percentage of the contractor's sales which this battery and other recent impacts represent, the Committee does not believe this addition to the Procurement List will have a severe adverse impact on the contractor.

The following material pertains to all of the items being added to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

Product/NSN: Battery Nonrechargeable, Lithium,

6135-01-351-1131.

NPA: Eastern Carolina Vocational Center, Inc., Greenville, North Carolina.

Contracting Activity: Defense Supply Center Richmond, Richmond, Virginia.

Product/NSN: Cups, Hot and Cold Drink,

7350-00-281-3211 (Cold Drink), 7350-00-641-4517 (Hot Drink), 7350-00-641-4519 (Hot Drink), 7350-00-641-4523 (Cold Drink), 7350-00-641-4576 (Hot Drink), 7350-00-641-4587 (Cold Drink), 7350-00-641-4589 (Cold Drink), 7350-00-641-4590 (Cold Drink), 7350-00-641-4591 (Cold Drink), 7350-00-641-4592 (Cold Drink), 7350-00-641-4593 (Cold Drink).

NPA: The Lighthouse for the Blind in New Orleans, New Orleans, Louisiana.

Contract Activity: GSA, Southwest Supply Center, Fort Worth, Texas.

Product/NSN: Gloves, Chemical Protective,

8415-01-509-2898, 8415-01-509-2902, 8415-01-509-2904, 8415-01-509-2905, 8415-01-509-2916.

Product/NSN: Socks, Chemical Protective,

8415-01-509-2875, 8415-01-509-2877, 8415-01-509-2879, 8415-01-509-2882, 8415-01-509-2883.

NPA: Industrial Opportunities, Inc., Marble, North Carolina.

Contract Activity: Defense Supply Center Philadelphia, Philadelphia, Pennsylvania.

Services

Service Type/Location: Base Supply Center, Fort Eustis, Virginia.

NPA: Virginia Industries for the Blind, Charlottesville, Virginia.

Contracting Activity: Army Contracting Agency/NRCC Installation Division, Fort Eustis, VA.

Service Type/Location: Food Service and Food Service Attendant, 131st Fighter Wing, Air National Guard Unit—Lambert Air Base, St. Louis, Missouri.

NPA: Challenge Unlimited, Inc., Alton, Illinois.

Contracting Activity: Missouri Air National Guard, Bridgeton, Missouri.

Service Type/Location: Housekeeping Services, Camp Edwards Billeting, Camp Edwards, Massachusetts.

NPA: Nauset, Inc., Hyannis, Massachusetts.

Contracting Activity: Massachusetts Army National Guard, Camp Edwards, Massachusetts.

Deletion

On March 26, 2004, the Committee for Purchase From People Who Are Blind or Severely Disabled published notice (69 FR 15787) of proposed deletion to the Procurement List. After consideration of the relevant matter presented, the Committee has determined that the service listed below is no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the service to the Government.

3. There are no known regulatory alternatives which would accomplish the objectives of the Javits-Wagner-O'Day Act (41 U.S.C. 46-48c) in connection with the service deleted from the Procurement List.

End of Certification

Accordingly, the following service is deleted from the Procurement List:

Service

Service Type/Location: Janitorial/Custodial, U.S. Army Reserve Center (Midland), Midland, Texas.

NPA: None currently authorized.

Contracting Activity: Department of the Army.

Sheryl D. Kennerly,
Director, Information Management.

[FR Doc. 04-27156 Filed 12-9-04; 8:45 am]

BILLING CODE 6353-01-P